DEPARTMENT OF COMMERCE

International Trade Administration

[A-583-815]

Certain Welded Stainless Steel Pipe from Taiwan: Notice of Rescission of Antidumping Duty Administrative Review

AGENCY: Import Administration, International Trade Administration, Department of Commerce.

EFFECTIVE DATE: June 27, 2006.

FOR FURTHER INFORMATION CONTACT: Jun Jack Zhao or Gene Calvert, AD/CVD Operations, Office 6, Import Administration, International Trade Administration, U.S. Department of Commerce, 14th Street and Constitution Avenue, NW, Washington DC 20230; telephone: (202) 482-1396 or (202) 482-3586, respectively.

SUPPLEMENTARY INFORMATION:

Background

On December 1, 2005, the Department of Commerce (“the Department”) published a notice of opportunity to request an administrative review of the antidumping duty order on certain welded stainless steel pipe from Taiwan. See Antidumping or Countervailing Duty Order, Finding, or Suspended Investigation; Opportunity to Request Administrative Review, 70 FR 72109 (December 1, 2005). On December 30, 2005, Froch Enterprise (“Froch”), stating that it was formerly Jaung Yuann Enterprise Co., Ltd., timely requested that the Department conduct an administrative review of Froch. The Department published a notice of the initiation of the antidumping duty administrative review of certain welded stainless steel pipe from Taiwan for the period December 1, 2004, through November 30, 2005. See Initiation of Antidumping and Countervailing Duty Administrative Reviews and Request for Revocation in Part, 71 FR 5241 (February 1, 2006). On June 5, 2006, Froch withdrew its request for an administrative review.

Rescission of Review

The Department's regulations at section 351.213(d)(1) provide that the Department will rescind an administrative review if the party that requested the review withdraws its request for review within 90 days of the date of publication of the notice of initiation of the requested review, or withdraws its request at a later date if the Department determines that it is reasonable to extend the time limit for withdrawing the request. Although Froch withdrew its request after the 90-day deadline, the Department finds it reasonable to extend the withdrawal deadline because the Department has not yet devoted any significant time and resources to this review, and Froch was the only party to request a review.¹ Further, we find that Froch's withdrawal does not constitute an abuse of our procedures. Therefore, we are rescinding this review of the antidumping duty order on certain welded stainless steel pipe from Taiwan covering the period December 1, 2004, through November 30, 2005. The Department will issue appropriate assessment instructions directly to U.S. Customs and Border Protection within 15 days of publication of this rescission.

¹ See, e.g., Persulfates from the People's Republic of China: Notice of Rescission of Antidumping Duty Administrative Review, 71 FR 13810 (March 17, 2006); See also, Honey from the People's Republic of China: Notice of Partial Rescission of Antidumping Duty Administrative Review, 70 FR 42032 (July 21, 2005).

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: June 21, 2006.
Stephen J. Claeys,
Deputy Assistant Secretary for Import Administration.

[FR Doc. E6-10107 Filed 6-26-06; 8:45 am]

BILLING CODE 3510-DS-S